DEPARTMENT OF ENERGY

Federal Energy Regulatory Commission

[Project No. 14635-001]

Village of Gouverneur, New York; Notice of Intent To Prepare an Environmental Assessment

On September 20, 2019, the Village of Gouverneur, New York (Village of Gouverneur) filed an application for an original minor license to continue operating the existing, unlicensed, 160-kilowatt Gouverneur Hydroelectric Project No. 14635 (Gouverneur Project or project). The project is located on the Oswegatchie River in the Village of Gouverneur, St. Lawrence County, New York. The project does not occupy federal land.

In accordance with the Commission's regulations, on November 19, 2020, Commission staff issued a notice that the project was ready for environmental analysis (REA notice). Based on the information in the record, including comments filed on the REA notice, staff does not anticipate that licensing the project would constitute a major federal action significantly affecting the quality of the human environment. Therefore, staff intends to prepare an Environmental Assessment (EA) on the application to license the Gouverneur Project.

The EA will be issued and circulated for review by all interested parties. All comments filed on the EA will be analyzed by staff and considered in the Commission's final licensing decision.

The application will be processed according to the following schedule. Revisions to the schedule may be made as appropriate.

¹ The Council on Environmental Quality's (CEQ) regulations under 40 CFR 1501.10(b)(1) require that EAs be completed within 1 year of the federal action agency's decision to prepare an EA. This notice establishes the Commission's intent to prepare an EA for the Gouverneur Project. Therefore, in accordance with CEQ's regulations, the EA must be issued within 1 year of the issuance date of this notice.

Milestone | Target date
Commission issues EA | May 2021.¹
Comments on EA | June 2021.

Any questions regarding this notice may be directed to Jody Callihan at (202) 502-8278 or jody.callihan@ferc.gov.

Dated: January 22, 2021.
Kimberly D. Bose,
Secretary.

[FR Doc. 2021-01869 Filed 1-27-21; 8:45 am]

BILLING CODE 6717-01-P